ENVIRONMENTAL PROTECTION AGENCY

[EPA-HQ-OAR-2021-0121; FRL—9668-01-OMS]

Information Collection Request Submitted to OMB for Review and Approval; Comment Request; NESHAP for Industrial, Commercial, and Institutional Boilers Area Sources (Renewal)

AGENCY: Environmental Protection Agency (EPA).

ACTION: Notice.

SUMMARY: The Environmental Protection Agency (EPA) has submitted an information collection request (ICR), NESHAP for Industrial, Commercial, and Institutional Boilers Area Sources (EPA ICR Number 2253.05, OMB Control Number 2060-0668) to the Office of Management and Budget (OMB) for review and approval in accordance with the Paperwork Reduction Act. This is a proposed extension of the ICR, which is currently approved through April 30, 2022. Public comments were previously requested via the Federal Register on April 13, 2021 during a 60-day comment period. This notice allows for an additional 30 days for public comments. A fuller description of the ICR is given below, including its estimated burden and cost to the public. An agency may not conduct or sponsor and a person is not required to respond to a collection of information unless it displays a currently valid OMB control number.

DATES: Additional comments may be submitted on or before April 18, 2022.

ADDRESSES: Submit your comments, referencing Docket ID Number EPA-HQ-OAR-2021-0121, online using www.regulations.gov (our preferred method) or by mail to: EPA Docket Center, Environmental Protection Agency, Mail Code 2821T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: Supporting documents, which explain in detail the information that the EPA will be collecting, are available in the public docket for this ICR. The docket can be viewed online at https://www.regulations.gov or in person at the EPA Docket Center, WJC West Building, Room 3334, 1301 Constitution Ave. NW, Washington, DC. The telephone number for the Docket Center is 202-566-1744. For additional information about EPA's public docket, visit http://www.epa.gov/dockets.

Abstract: Owners and operators of new or existing industrial, commercial, or institutional boilers are required to comply with reporting and record keeping requirements for the general provisions of 40 CFR part 63, subpart A, as well as the applicable specific standards in 40 CFR part 63 subpart JJJJJJ. This includes submitting initial notifications, performance tests, biennial tune-ups, and periodic compliance reports and results, maintaining records of fuel usage, and any period during which the control system is inoperative. These reports are used by EPA to determine compliance with the standards.

Form Numbers: 5900-568.

Respondents/affected entities: Owners and operators of new or existing industrial, commercial, or institutional boilers.

Respondent's obligation to respond: Mandatory (40 CFR part 63, subpart JJJJJJ).

Estimated number of respondents: 64,344 (total).

Frequency of response: Initially, annually, biennially.

Total estimated burden: 1,140,000 hours (per year). Burden is defined at 5 CFR 1320.3(b).

Total estimated cost: $214,000,000 (per year), includes $78,700,000 annualized capital or operation & maintenance costs.

Changes in the Estimates: There is a decrease in burden from the most recently approved ICR as currently identified in the OMB Inventory of Approved Burdens. This is due to several considerations. The primary reason for the decrease in burden is a decrease in the estimated number of respondents using liquid-fueled boilers. U.S. Energy Information Administration data indicates the consumption of fuel oil in the commercial sector has decreased by 33 percent in the past 9 years and is anticipated to decrease by 1 percent per year for the next three years. This ICR assumes that this decrease in consumption corresponds to an equivalent decrease in the number of small and large boilers firing liquid fuels and adjusts the number of small liquid-fired and large liquid-fired boilers and respondents accordingly. This ICR assumes that, due to the decrease in respondents over the past nine years, no new liquid-fired boilers were constructed during that time period. The decrease in the estimated number of respondents firing liquid fuels resulted in a decrease in labor burden for the small and large liquid-fired categories. The estimated decrease in the number of respondents firing liquid fuels also results in a decrease of the number of liquid-fired sources required to do periodic stack testing and operate ESPs. This results in a significant decrease in periodic stack testing and O&M costs for large liquid-fired boilers constructed since the rule was promulgated in June 2010. This ICR assumes that growth in the small and large solid-fueled categories will continue according to past trends. The increase in the estimated number of respondents firing solid fuels resulted in an increase in labor burden and capital/O&M costs for the small and large solid-fired categories. This ICR also corrects mathematical errors in the calculation of O&M costs for respondents firing solid fuels and required to perform triennial stack testing for Hg, CO, and PM. This correction results in an increase of capital and O&M costs. However, the overall results of the adjustments to this ICR is a decrease in burden and capital and O&M costs.

Courtney Kerwin,
Director, Regulatory Support Division.

[FR Doc. 2022-05705 Filed 3-17-22; 8:45 am]

BILLING CODE 6560-50-P